DEPARTMENT OF EDUCATION

Applications for New Awards; Educational Opportunity Centers (EOC) Program

AGENCY: Office of Postsecondary Education, Department of Education.

ACTION: Notice.

Overview Information: Educational Opportunity Centers (EOC) Program; notice inviting applications for new awards for fiscal year (FY) 2011.

Catalog of Federal Domestic Assistance (CFDA) Number: 84.066A.

Dates:

Applications Available: April 6, 2011.

Deadline for Transmittal of Applications: May 23, 2011.

Deadline for Intergovernmental Review: July 20, 2011.

Full Text of Announcement

I. Funding Opportunity Description

Purpose of Program: The purpose of the EOC Program is to provide information regarding financial and academic assistance available for individuals who desire to pursue a program of postsecondary education; to provide assistance to these individuals in applying for admission to institutions at which a program of postsecondary education is offered, including assistance in preparing necessary applications for use by admissions and financial aid officers; and to improve the financial and economic literacy of participants.

Priorities: This notice includes one competitive preference priority and two invitational priorities. The competitive preference priority is from the notice of final supplemental priorities and definitions for discretionary grant programs, published in the Federal Register on December 15, 2010 (75 FR 78486).

Competitive Preference Priority: For FY 2011 and any subsequent year in which we make awards from the list of unfunded applicants from this competition, this priority is a competitive preference priority. Under 34 CFR 75.105(c)(2)(i) we award up to an additional two points to an application, depending on how well the application meets this priority.

This priority is:

Projects that are designed to address the needs of military-connected students (as defined in this notice).

Note: For purposes of this notice, military-connected student means (a) a child participating in an early learning program, a student in preschool through grade 12, or a student enrolled in postsecondary education or training who has a parent or guardian on active duty in the uniformed services (as defined by 37 U.S.C. 101, in the Army, Navy, Air Force, Marine Corps, Coast Guard, National Guard, or the reserve component of any of the aforementioned services) or (b) a student who is a veteran of the uniformed services, who is on active duty, or who is the spouse of an active-duty service member.

Invitational Priorities: For FY 2011 and any subsequent year in which we make awards from the list of unfunded applicants from this competition, these priorities are invitational priorities. Under 34 CFR 75.105(c)(1), we do not give an application that meets one or more of these invitational priorities a competitive or absolute preference over other applications.

These priorities are:

Invitational Priority 1: The Secretary encourages applicants to propose projects in which they would work with appropriate State agencies to use data from State longitudinal data systems or obtain data from reliable third-party sources when providing information on the implementation of their EOC projects and their participants' outcomes.

Invitational Priority 2: The Secretary encourages applicants to propose projects in which they would coordinate project services with school-level partners and other community resources in order to carry out projects that are cost-effective and best meet the needs of adult learners, including veterans.

Program Authority: 20 U.S.C. 1070a-11 and 20 U.S.C. 1070a-16.

Applicable Regulations: (a) The Education Department General Administrative Regulations (EDGAR) in 34 CFR parts 74, 75 (except for 75.215 through 75.221), 77, 79, 80, 82, 84, 85, 86, 97, 98 and 99. (b) The regulations for this program in 34 CFR part 644, as revised by the notice of final regulations, published in the Federal Register on October 26, 2010, 75 FR 65712. (c) The notice of final supplemental priorities and definitions for discretionary grant programs, published in the Federal Register on December 15, 2010 (75 FR 78486).

Note: The regulations in 34 CFR part 79 apply to all applicants except federally recognized Indian tribes.

Note: The regulations in 34 CFR part 86 apply to institutions of higher education only.

II. Award Information

Type of Award: Discretionary grants.

Estimated Available Funds: The Administration has requested $853.1 million for the Federal TRIO Programs for FY 2011, of which we intend to use an estimated $46,830,000 for the EOC Program competition. The actual level of funding, if any, depends on final Congressional action. However, we are inviting applications to allow enough time to complete the grant process if Congress appropriates funds for this program.

Contingent upon the availability of funds and the quality of applications, we may make additional awards in FY 2012 from the list of unfunded applicants from this competition.

Estimated Range of Awards: $230,000-$1,172,000.

Estimated Average Size of Awards: $377,661.

Maximum Award:

• For an applicant who is not currently receiving an EOC Program grant and proposes to serve a minimum of 1,000 eligible participants at a cost that does not exceed $230 per participant, the maximum award amount is $230,000.

• For an applicant who is currently receiving an EOC Program grant and proposes to serve a minimum of 1000 eligible participants at a cost that does not exceed $300 per participant, the maximum award amount is the greater of: (a) $230,000 or (b) an amount equal to 103 percent of the applicant's grant award amount for FY 2009 or FY 2010, whichever is greater.

For example, an applicant who is eligible for a $300,300 grant (103 percent of the applicant's current funding level) and is applying for the full $300,300 must propose to serve at least 1001 participants. The applicant would be proposing to serve at least 1001 participants at $300 per participant, which would equal $300,300 in grant funding. This applicant would meet the requirement to serve a minimum of 1000 participants and the requirement not to exceed $300 per participant.

Note: For an applicant who is currently receiving an EOC program grant that is serving more than 1000 participants, the applicant is encouraged to continue to serve its current number of participants. However, if the applicant proposes to reduce the number of participants to be served, the applicant must propose to serve at least 1000 participants at a cost that does not exceed $300 per participant.

For an applicant who is currently receiving an EOC program grant that is serving 1,000 participants, but at a cost per participant exceeding $300, the applicant must either: (1) Propose to continue to serve 1,000 participants, but at a reduced award amount that is based on a $300 cost per participant (i.e. $300,000); or (2) request an award amount equal to 103% of the applicant's grant award amount for FY 2009 or 2010, whichever is greater, but increase the number of participants proposed to be served, such that the per participant cost does not exceed $300.

The Department may choose to fund successful applicants who are currently receiving an EOC grant and serving more than 1000 participants at a level equal to the greater of the award amount for FY 2009 or FY 2010, instead of an amount equal to 103 percent of the greater of the award amount for FY 2009 or FY 2010. However, in that situation, the Department will adjust the number of participants that the applicant will be required to serve accordingly. For example, an applicant that is eligible to receive a $480,000 grant would be required to serve at least 1,600 participants.

Pursuant to 34 CFR 644.32(b), we will reject any application that proposes a budget exceeding the maximum amount described in this section for a single budget period of 12 months. We will also reject any application that proposes a budget to serve less than 1000 participants or proposes a budget that exceeds the maximum per participant cost of $300.

Estimated Number of Awards: 124.

Note: The Department is not bound by any estimates in this notice.

Project Period: Up to 60 months.

III. Eligibility Information

1. Eligible Applicants: Institutions of higher education; public and private agencies and organizations, including community-based organizations with experience in serving disadvantaged youth; combinations of these institutions, agencies, and organizations; and secondary schools.

2. Cost Sharing or Matching: This program does not require cost sharing or matching.

3. Other: An applicant may submit more than one application for an EOC grant as long as each application describes a project that serves a different target area (34 CFR 644.10(a)). The Secretary is not designating any additional populations for which an applicant may submit a separate application under this competition (34 CFR 644.10(b)).

IV. Application and Submission Information

1. Address to Request Application Package: Rachael Couch, U.S. Department of Education, 1990 K Street, NW., room 7000, Washington, DC 20006-8510. Telephone: (202) 502-7600 or by e-mail: TRIO@ed.gov.

If you use a telecommunications device for the deaf (TDD), call the Federal Relay Service (FRS), toll free, at 1-800-877-8339.

Individuals with disabilities can obtain a copy of the application package in an accessible format (e.g., braille, large print, audiotape, or computer diskette) by contacting the program contact person listed in this section.

2. Content and Form of Application Submission: Requirements concerning the content of an application, together with the forms you must submit, are in the application package for this program.

Page Limit: The total page limit for the project narrative portion of the application for the FY 2011 EOC competition is 50 pages, including any discussion of how the application meets one or both of the invitational priorities. However, any application addressing the competitive preference priority may include up to five additional pages in a separate section of the application submission to discuss how the application meets the competitive preference priority. The five additional pages cannot be used for or transferred to the project narrative. Partial pages will count as a full page toward the page limit. Please use the following standards for the application narrative:

• A “page” is 8.5″ x 11″, on one side only, with 1″ margins at the top, bottom, and both sides. Page numbers and an identifier may be within the 1″ margin.

• Double space (no more than three lines per vertical inch) all text in the application narrative, except titles, headings, footnotes, quotations, references, captions, and all text in charts, tables, figures and graphs.

• Use a font that is 12 point or larger.

• Use one of the following fonts: Times New Roman, Courier, Courier New, or Arial. An application submitted in any other font (including Times Roman and Arial Narrow) will not be accepted.

The page limit does not apply to Part I, the Application for Federal Assistance Face Sheet (SF 424); Part II, the budget information summary form (ED Form 524); the EOC Program Profile; the one-page Project Abstract narrative; and the assurances and certifications. The page limit also does not apply to a table of contents. If you include any attachments or appendices, these items will be counted as part of Part III, the application narrative, for purposes of the page-limit requirement. You must include your complete response to the selection criteria, which also includes the budget narrative, in Part III, the application narrative.

We will reject your application if you exceed the page limit.

3. Submission Dates and Times:

Applications Available: April 6, 2011.

Deadline for Transmittal of Applications: May 23, 2011.

Applications for grants under this program must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: July 20, 2011.

4. Intergovernmental Review: This program is subject to Executive Order 12372 and the regulations in 34 CFR part 79. Information about Intergovernmental Review of Federal Programs under Executive Order 12372 is in the application package for this program.

5. Funding Restrictions: We specify unallowable costs in 34 CFR 644.31. We reference additional regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue

Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this program must be submitted electronically unless you qualify for an exception to this requirement in accordance with the instructions in this section.

a. Electronic Submission of Applications.

Applications for grants under the EOC Program, CFDA number 84.066A, must be submitted electronically using the Governmentwide Grants.gov Apply site at www.Grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the EOC Program at http://www.Grants.gov. You must search for the downloadable application package for this program by the CFDA number. Do not include the CFDA number's alpha suffix in your search (e.g., search for 84.066, not 84.066A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this program to ensure that you submit your application in a timely manner to the Grants.gov system. You can also find the Education Submission Procedures pertaining to Grants.gov under News and Events on the Department's G5 system home page at http://www.G5.gov.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Geraldine Smith, U.S. Department of Education, 1990 K Street, NW., room 7000, Washington, DC 20006-8510. FAX: (202) 502-7857.

Your paper application must be submitted in accordance with the mail or hand delivery instructions described in this notice.

b. Submission of Paper Applications by Mail.

If you qualify for an exception to the electronic submission requirement, you may mail (through the U.S. Postal Service or a commercial carrier) your application to the Department. You must mail the original and three copies of your application, on or before the application deadline date, to the Department at the following address:

U.S. Department of Education, Application Control Center, Attention: (CFDA Number 84.066A) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address:

U.S. Department of Education, Application Control Center, Attention: (CFDA Number 84.066A) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program competition are from 34 CFR 644.21 and are listed in the application package.

Note: With the changes made to the Higher Education Act of 1965, as amended, by the Higher Education Opportunity Act, the EOC Program objectives have been standardized. Please note that applicants are required to use these objectives to measure performance under the program. Specifically, under the “Objectives” section of the selection criterion, 34 CFR 644.21(b), which is worth eight points, applicants should address the standardized objectives related to secondary school diploma or equivalent, financial aid applications, college admission applications, and postsecondary enrollment.

2. Review and Selection Process: A panel of non-Federal readers will review each application in accordance with the selection criteria and the competitive preference priority, pursuant to 34 CFR 75.217. The individual scores of the readers will be added and the sum divided by the number of readers to determine the reader score received in the review process. In accordance with 34 CFR 644.22, the Secretary will evaluate the prior experience of applicants that received an EOC Program project grant for project years 2007-08, 2008-09 and 2009-10. Based on that evaluation, the Secretary may add prior experience points to the application's averaged reader score to determine the total score for each application. The Secretary makes new grants in rank order on the basis of the total scores of the reader scores and prior experience points awarded to each application. Pursuant to 34 CFR 644.20(c), if there are insufficient funds for all applications with the same total scores, the Secretary will choose among the tied applications so as to serve geographical areas that have been underserved by the EOC Program. The Secretary will not make a new grant to an applicant if the applicant's prior project involved the fraudulent use of program funds.

We remind potential applicants that in reviewing applications in any discretionary grant competition, the Secretary may consider, under 34 CFR 75.217(d)(3), the past performance of the applicant in carrying out a previous award, such as the applicant's use of funds, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or, is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements:

We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: The success of the EOC Program will be measured by the EOC Program participants' success in completing a secondary school diploma or its equivalent, completion of applications for student financial aid, submission of applications for postsecondary admission, and postsecondary enrollment. All EOC Program grantees will be required to submit an annual performance report.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contacts

FOR FURTHER INFORMATION CONTACT: Rachael Couch or Geraldine Smith, U.S. Department of Education, 1990 K Street, NW., room 7000, Washington, DC 20006-8510. Telephone: (202) 502-7600 or by e-mail: TRIO@ed.gov.

If you use a TDD, call the FRS, toll free, at 1-800-877-8339.

VIII. Other Information

Accessible Format: Individuals with disabilities can obtain this document and a copy of the application package in an accessible format (e.g., braille, large print, audiotape, or computer diskette) on request to one of the program contact persons listed under For Further Information Contact in section VII of this notice.

Electronic Access to This Document: You can view this document, as well as all other documents of this Department published in the Federal Register, in text or Adobe Portable Document Format (PDF), on the Internet at the following site: http://www.ed.gov/news/fedregister. To use PDF, you must have Adobe Acrobat Reader, which is available free at this site.

Note: The official version of this document is the document published in the Federal Register. Free Internet access to the official edition of the Federal Register and the Code of Federal Regulations is available via the Federal Digital System at: http://www.gpo.gov/fdsys.

Dated: March 31, 2011.
Eduardo M. Ochoa,
Assistant Secretary for Postsecondary Education.

[FR Doc. 2011-8202 Filed 4-5-11; 8:45 am]

BILLING CODE 4000-01-P